DEPARTMENT OF COMMERCE

International Trade Administration

North American Free Trade Agreement (NAFTA), Article 1904; Binational Panel Reviews: Notice of Completion of Panel Review

AGENCY: NAFTA Secretariat, United States Section, International Trade Administration, Department of Commerce.

ACTION: Notice of Completion of Panel Review of the International Trade Administration's final determination of Light-Walled Rectangular Pipe and Tube from Mexico (Secretariat File No. USA-MEX-2008-1904-03).

SUMMARY: Pursuant to the Memorandum Opinion and Order of the Binational Panel dated July 20, 2010, affirming the determination described above, the panel review was completed on September 2, 2010.

FOR FURTHER INFORMATION CONTACT: Valerie Dees, United States Secretary, NAFTA Secretariat, Suite 2061, 14th and Constitution Avenue, Washington, DC 20230, (202) 482-5438.

SUPPLEMENTARY INFORMATION: On July 20, 2010, the Binational Panel issued a Memorandum Opinion and Order affirming the International Trade Administration's final determination concerning Light-Walled Rectangular Pipe and Tube from Mexico. The Secretariat was instructed to issue a Notice of Completion of Panel Review on the 31st day following the issuance of the Notice of Final Panel Action, if no request for an Extraordinary Challenge Committee was filed. No such request was filed. Therefore, on the basis of the Panel Order and Rule 80 of the Article 1904 Panel Rules, the Panel Review was completed and the panelists were discharged from their duties effective

Dated: September 2, 2010.
Valerie Dees,
United States Secretary, AFTA Secretariat.

[FR Doc. 2010-22371 Filed 9-7-10; 8:45 am]

BILLING CODE 3510-GT-P